DEPARTMENT OF THE INTERIOR

Minerals Management Service

Preparation of an Environmental Assessment for Shell Offshore Inc.'s Proposed Deepwater Development Plan Offshore Alabama (NaKika Project)

AGENCY: Minerals Management Service, Interior.

ACTION: Preparation of an environmental assessment.

SUMMARY: The Minerals Management Service (MMS) is preparing an environmental assessment (EA) for a proposed deepwater development plan to develop and produce hydrocarbon reserves 115-118 miles offshore Alabama in Mississippi Canyon Blocks 474 and 520.

This EA implements the tiering process outlined in 40 CFR 1502.20, which encourages agencies to tier environmental documents, eliminating repetitive discussions of the same issue. By use of tiering from the most recent Final Environmental Impact Statement (EIS) for the Gulf of Mexico Central Planning Area for Lease Sales 169, 172, 175, 178, and 182 and by referencing related environmental documents, this EA concentrates on environmental issues specific to the proposed action.

FOR FURTHER INFORMATION CONTACT: Minerals Management Service, Gulf of Mexico OCS Region, 1201 Elmwood Park Boulevard, New Orleans, Louisiana 70123-2394, Mr. Clay Pilie', telephone (504) 736-2443.

SUPPLEMENTARY INFORMATION: The MMS GOM Region received an Initial Development Operations Coordination Document (DOCD) from Shell Offshore Inc. (Shell) that proposes to develop and produce hydrocarbon reserves using facilities located in Mississippi Canyon Blocks 474 and 520. The DOCD was assigned a plan control number of N-7166 and the project is referred to as the NaKika Project. Shell proposes to complete the previously drilled Mississippi Canyon Block 520 No. 1 Well (Herschel) and install the centrally-located floating semisubmersible-shaped host facility (NaKika) in Mississippi Canyon Block 474. The NaKika host facility will support the facilities, equipment, flowline risers, and export pipelines necessary to develop the reserves from 10 satellite subsea wells located in five independent fields—Kepler (Mississippi Canyon Block 383), Ariel (Mississippi Canyon 429 Unit), Fourier (Mississippi Canyon 522 Unit), Herschel (Mississippi Canyon 522 Unit), and East Anstey (Mississippi Canyon 607 Unit).

The NaKika host facility will be permanently moored by a 16-point, semi-taut wire rope, chain, and suction pile mooring system. The hull portion of the NaKika host facility is comprised of four square steel columns, 56 feet wide and 142 feet high, and four rectangular steel pontoons, 41 feet wide and 35 feet high, which connect the bottoms of the four columns. Topside facilities are comprised of four modules—quarters, process, east receiving, and west receiving. The quarters module will house up to 60 people.

The water depth at the NaKika host facility is approximately 6,340 feet. The project will use existing onshore support bases in Venice (air transportation) and Port Fourchon (marine transportation), Louisiana, to support the proposed activities.

Oil and gas produced at the NaKika project will be transported by right-of-way pipelines. These pipelines will connect with existing offshore infrastructure for final transport to shore.

The proposed action analyzed in the EA will be the development plan as proposed by Shell. Alternatives will include the proposed action with additional mitigations and no action (i.e., disapproval of the plan). The analyses in the EA will examine the potential environmental effects of the proposal and alternatives.

Public Comments: The MMS requests interested parties to submit comments regarding issues that should be addressed in the EA to the Minerals Management Service, Gulf of Mexico OCS Region, Office of Leasing and Environment, Attention: Regional Supervisor (MS 5410), 1201 Elmwood Park Boulevard, New Orleans, Louisiana 70123-2394. Comments must be submitted no later than 30 days from the publication of this notice.

Dated: October 9, 2001.
Chris C. Oynes,
Regional Director, Gulf of Mexico OCS Region.

[FR Doc. 01-27253 Filed 10-29-01; 8:45 am]

BILLING CODE 4310-MR-P